LIBRARY OF CONGRESS

Copyright Office

[Docket No. 2007-1]

Section 109 Report to Congress

Correction

In the FEDERAL REGISTER of April 16, 2007, in Docket No. 2007-1, Section 109 Report to Congress, on page 19039, in the second column, correct the “Dates” caption by removing “April 16, 2007.”

Dated: April 18, 2007.
Tanya Sandros,
Acting General Counsel.

[FR Doc. E7-7731 Filed 4-23-07; 8:45 am]

BILLING CODE 1410-30-S